ENVIRONMENTAL PROTECTION AGENCY

[FRL-6874-4]

Availability of FY 99 Grant Performance Reports for States of Alabama, Florida, North Carolina, South Carolina, and Tennessee, and Local Agencies Within Those States as well as Jefferson County, KY

AGENCY: Environmental Protection Agency (EPA).

ACTION: Notice of availability of grantee performance evaluation reports.

SUMMARY: EPA's grant regulations (40 CFR 35.150) require the Agency to evaluate the performance of agencies which receive grants. EPA's regulations for regional consistency (40 CFR 56.7) require that the Agency notify the public of the availability of the reports of such evaluations. EPA recently performed end-of-year evaluations of five state air pollution control programs (Alabama Department of Environmental Management, Florida Department of Environmental Protection, North Carolina Department of Environment and Natural Resources, South Carolina Department of Health and Environmental Control, Tennessee Department of Environmental & Conservation) and 16 local programs (Knox County Department of Air Pollution Control, TN; Chattanooga-Hamilton County Air Pollution Control Bureau, TN; Memphis-Shelby County Health Department, TN; Nashville-Davidson County Metropolitan Health Department, TN; Jefferson County Air Pollution Control District, KY; Western North Carolina Regional Air Pollution Control Agency, NC; Mecklenburg County Department of Environmental Protection, NC; Forsyth County Environmental Affairs Department, NC; Palm Beach County Public Health Unit, FL; Hillsborough County Environmental Protection Commission, FL; Dade County Environmental Resources Management, FL; Jacksonville Air Quality Division, FL; Broward County Environmental Quality Control Board, FL; Pinellas County Department of Environmental Management, FL; City of Huntsville Department of Natural Resources, AL; Jefferson County Department of Health, AL). The 21 evaluations were conducted to assess the agencies' performance under the grants awarded by EPA under authority of section 105 of the Clean Air Act. EPA Region 4 has prepared reports for each agency identified above and these reports are now available for public inspection. The evaluations for the Commonwealth of Kentucky, the States of Georgia and Mississippi will be made available for public review at a later date.

ADDRESSES: The reports may be examined at the EPA's Region 4 office, 61 Forsyth Street, SW, Atlanta, Georgia 30303, in the Air, Pesticides, and Toxics Management Division.

FOR FURTHER INFORMATION CONTACT: Gloria Knight, (404) 562-9064, at the above Region 4 address, for information concerning the state agencies in Alabama, Florida, Mississippi, Georgia, and the local agencies in those states, or Vera Bowers, (404) 562-9053, at the above Region 4 address, for information concerning the state agencies in Kentucky, North Carolina, South Carolina, Tennessee, and the local agencies in those states.

Dated: September 11, 2000.
A. Stanley Meiburg,
Acting Regional Administrator, Region 4.

[FR Doc. 00-24309 Filed 9-20-00; 8:45 am]

BILLING CODE 6560-50-P